DEPARTMENT OF THE INTERIOR

National Park Service

[NPS-WASO-VRP-WS-NPS0028481; PPWOWMADL3, PPMPSAS1Y.TD0000 (200); OMB Control Number 1024-0022]

Agency Information Collection Activities; Submission to the Office of Management and Budget for Review and Approval; Backcountry/Wilderness Use Permit

AGENCY: National Park Service, Interior.

ACTION: Notice of Information Collection; request for comment.

SUMMARY: In accordance with the Paperwork Reduction Act of 1995, we, the National Park Service (NPS) are proposing to renew an information collection with revisions.

DATES: Interested persons are invited to submit comments on or before August 31, 2020.

ADDRESSES: Written comments and recommendations for the proposed information collection should be sent within 30 days of publication of this notice to www.reginfo.gov/public/do/PRAMain. Find this particular information collection by selecting “Currently under 30-day Review—Open for Public Comments” or by using the search function. Please provide a copy of your comments to Phadrea Ponds, NPS Information Collection Clearance Officer, 1201 Oakridge Drive, Fort Collins, CO 80525; or by email at phadrea_ponds@nps.gov. Please reference OMB Control Number 1024-0022 in the subject line of your comments.

FOR FURTHER INFORMATION CONTACT: To request additional information about this ICR, contact Roger Semler, Chief, Wilderness Stewardship Division by email at roger_semler@nps.gov; or by telephone at 406-542-3247. Individuals who are hearing or speech impaired may call the Federal Relay Service at 1-800-877-8339 for TTY assistance. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day comment period soliciting comments on this collection of information was published on March 18, 2020 (85 FR 15494). We received one response from the State of Alaska on May 18, 2020, requesting the following changes to the application form:

Comment: Should OBM continue to authorize NPS Form 10-404 for use in Alaska park units, to improve clarity and eliminate misinformation and confusion for a significant number of park visitors and Alaskan residents, the form needs to be revised to clarify:

(1) It only applies to Alaska park units that have regulatory requirements for backcountry wilderness permits;

(2) not all park units require an entrance fee; and

(3) exceptions apply where enabling legislation, such as ANILCA, allows for motorized and mechanized access in designated wilderness.”

NPS Response/Action Taken: The National Park Service accepted the suggested revisions and has created the 10-404AK Alaska Backcountry/Wilderness Use Permit Application specifically for National Park Service units in Alaska (i.e., Denali National Park and Preserve and Glacier Bay National Park and Preserve).

As part of our continuing effort to reduce paperwork and respondent burdens, we are again soliciting comments from the public and other Federal agencies on the proposed ICR that is described below. We are especially interested in public comment addressing the following:

(1) Whether or not the collection of information is necessary for the proper performance of the functions of the NPS, including whether or not the information will have practical utility;

(2) The accuracy of our estimate of the burden for this collection of information, including the validity of the methodology and assumptions used;

(3) Ways to enhance the quality, utility, and clarity of the information to be collected; and

(4) How might the NPS minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Backcountry/Wilderness Use Permit is an extension of the NPS statutory authority and responsibility to protect the park areas it administers and to manage the public use thereof (54 U.S.C. 100101, 100751, 320102). NPS regulations codified in 36 CFR parts 1 through 7, 12 and 13 are designated to implement statutory mandates that provide for resource protection and public enjoyment. In 1976, the NPS initiated a backcountry registration system in accordance with the regulations codified in 36 CFR 1.5, 1.6 and 2.10. The objective of the registration system is to provide users access to backcountry and wilderness areas of national parks with continuing opportunities for solitude. These areas provide primitive and unconfined recreation, while enhancing protection of natural and cultural resources and providing a means of disseminating public safety and outdoor ethics messages regarding backcountry/wilderness travel and camping. The objectives of the permit system carried out by park managers are to ensure:

(1) Requests by backcountry users are evaluated by park managers in accordance with applicable statutes and NPS regulations.

(2) The use of consistent standards and permitting criteria throughout the agency.

(3) To the extent possible, the use of a single and efficient permitting document.

The NPS uses the registration system as a means of ensuring backcountry/wilderness users receive up-to-date information on outdoor ethics which minimize social and resource impacts. The information collected is an important source of information for first responders in the event of an emergency requiring search and rescue operations backcountry/wilderness areas. NPS Forms 10-404 Backcountry/Wilderness Use Permit Application and 10-404A Backcountry/Wilderness Use Permit Hangtag are used to provide access into NPS backcountry areas, including areas that require a reservation to enter where use limits are imposed in accordance with other NPS regulations.

In response to a public comment on the 60-day Federal Register Notice, we are seeking approval for a new form, 10-404AK Alaska Backcountry/Wilderness Use Permit Application specifically for National Park Service units in Alaska (i.e., Denali National Park and Preserve and Glacier Bay National Park and Preserve). This form does not request any new information not already approved by OMB for collection in Form 10-404. It serves to clarify the legal authorities governing permitted activities only allowable within Alaskan park units, removes permit application fees which are not collected in these parks, and includes additional permitted methods of travel as regulated by ANILCA Section 1110(a).

Title of Collection: Backcountry/Wilderness Use Permit, 36 CFR 1.5, 1.6, and 2.10.

OMB Control Number: 1024-0022.

Form Number: NPS Forms 10-404 Backcountry/Wilderness Use Permit Application, 10-404A Backcountry/Wilderness Use Permit Hangtag, and 10-404AK Alaska Backcountry/Wilderness Use Permit Application.

Type of Review: Revision of a currently approved collection.

Respondents/Affected Public: Individuals, private sector, and state, local, or tribal government entities applying to use backcountry and wilderness areas within units of the national park system.

Total Estimated Number of Annual Responses: 351,121.

Estimated Completion Time per Response: Varies from 5 minutes to 8 minutes depending on activity.

Total Estimated Number of Annual Burden Hours: 39,116.

Respondent's Obligation: Required to obtain or retain a benefit.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2020-16654 Filed 7-30-20; 8:45 am]

BILLING CODE 4312-52-P